DEPARTMENT OF JUSTICE

Drug Enforcement Administration

Saeed Saleh, M.D.; Revocation of Registration

On December 8, 2003, the Deputy Assistant Administrator, Office of Diversion Control, Drug Enforcement Administration (DEA), issued an Order to Show Cause to Saeed Seleh,¹ M.D. (Dr. Saleh) notifying him of an opportunity to show cause as to why DEA should not revoke his Certificate of Registration, AS5912387, under 21 U.S.C. 824(a)(3) and (a)(4), and deny any pending applications for renewal or modification of that registration pursuant to 21 U.S.C. 823(f). Specifically, the Order to show Cause alleged in relevant part, the following:

¹ The Order to Show Cause alternates the spelling of the registrant's last name between Salah and Saleh. Since it appears from attached correspondences in the investigative file that the common spelling of the registrant's name is Saleh, the Deputy Administrator will refer to the registrant's name in a similar fashion.

(1) Effective June 2, 2001, the State of Michigan, Department of Consumer and Industry Services, Board of Medicine Disciplinary Subcommittee, suspended Dr. Saleh's licensure privileges. On September 19, 2001, the Subcommittee dissolved the summary suspension and suspended Dr. Saleh's medical license for six months and one day. Because reinstatement of his medical license following the suspension was not automatic, Dr. Saleh was required to apply for reinstatement, which he failed to do. As of September 4, 2003, Dr. Saleh's medical license was considered “lapsed”, as it expired on January 31, 2003.

(2) The action with respect to Dr. Saleh's medical license was based upon a neuropsychiatric evaluation which indicated that he suffered from significant cognitive deficits. The evaluation indicated further that Dr. Saleh demonstrated disinhibition, deficits in attention and concentration, anterograde amnesia, and deficits in executive functioning. The state evaluator considered these conditions and concluded that Dr. Saleh was not able to practice medicine, and as a result, the State of Michigan found Dr. Saleh in violation of a provision of the state Public Health Code. Dr. Saleh was also found to be impaired and not able to safely and skillfully practice the health profession. In addition, the State charged Dr. Saleh with violating section 16221(b)(iii) of the Public Health Code, in that he was found to have suffered from a mental or physical inability to practice his profession in a safe and competent manner.

(3) Dr. Saleh also had a medical license to practice medicine in California, which was suspended on October 31, 2001. The allegations were in reference to the summary suspension that was issued by the Michigan Board of Medicine in June of 2001. Effective, September 23, 2002, the California Medical Board issued an order revoking Dr. Saleh's medical license in California, i.e. his Physician's and Surgeon's Certificate.

(4) As a result of the actions taken by the State of Michigan, Department of Consumer and Industry Services, Board of Medicine Disciplinary Subcommittee, Dr. Saleh is currently without authority to handle controlled substances in the State of Michigan, the state in which he is registered with DEA.

Copies of the Order to Show Cause were sent by certified mail to Dr. Saleh at his registered location in Detroit, Michigan, with a second copy sent to a location in Orchard Lake, Michigan. The order sent to the Orchard Lake location was subsequently forwarded to a location in San Diego, California by the United States Postal Service where it was accepted on behalf of Dr. Saleh on December 26, 2003. DEA has not received a request for hearing or any other reply from Dr. Saleh or anyone purporting to represent him in this matter

Therefore, the Deputy Administrator of DEA, finding that (1) Thirty days having passed since the delivery of the Order to Show Cause to the registrant's address of record, as well as to a second address; and (2) no request for hearing having been received, concludes that Dr. Saleh is deemed to have waived his hearing right. See David W. Linder, 67 FR 12579 (2002). After considering material from the investigative file in this matter, the Deputy Administrator now enters her final order without a hearing pursuant to 21 CFR 1301.43(d) and (e) and 1301.46.

The Deputy Administrator finds that Dr. Saleh is currently registered with DEA as a practitioner. According to information in the investigative file, on or about June 26, 2001, the Michigan Department of Consumer and Industry Services, Board of Medicine (Board) issued an Order of Summary Suspension of the state medical license of Dr. Saleh. Attached to the Order of Summary Suspension was a two-count Administrative Complaint which alleged, in relevant part, that Dr. Saleh suffered from “* * * a mental or physical inability reasonably related to and adversely affecting [his] ability to practice medicine in a safe and competent manner * * *”

In support of the allegations in its Administrative Complaint, the Board found that after a neuropsychological examination, Dr. Saleh suffered from memory and cognitive impairments. Specifically, Dr. Saleh was diagnosed with amnestic syndrome, small vessel cerebral ischemic disease and demonstrated deficits involving memory function, fine motor dexterity, verbal fluency, and abstract reasoning.

Effective September 19, 2001, Dr. Saleh entered into a Consent Order with the Board where the parties agreed, inter alia, to the dissolution of the June 26, 2001 Order of Summary Suspension and the suspension of Dr. Saleh's medical license for a minimum period of six months and one day. The parties further agreed that reinstatement of a license which had been suspended for more than six months is not automatic; and in the event Dr. Saleh applied for the reinstatement of his medical license, he was required to satisfy certain conditions as part of his readmission to the practice of medicine.

Information in the investigative file further reveals that in or around September of 2003, DEA received information that Dr. Saleh's Michigan medical license was considered “lapsed” by the state, as it had expired on January 31, 2003. There is no evidence before the Deputy Administrator that Dr. Saleh has satisfied the conditions of the Board for reinstatement of his medical license, or that he has renewed that license.

Pursuant to 21 U.S.C. 824(a), the Deputy Administrator may revoke a DEA Certificate of Registration if she finds that the registrant has had his state license revoked and is no longer authorized to dispense controlled substances, or has committed such acts as would render his registration contrary to the public interest as determined by factors listed in 21 U.S.C. 823(f). Thomas B. Pelkowski, D.D.S., 57 FR 28538 (1992). Nevertheless, despite findings of the Board regarding Dr. Saleh's fitness to practice medicine in the State of Michigan and notwithstanding the other public interest factors for the revocation of his DEA registration asserted herein, the more relevant consideration here is the present status of Dr. Saleh's state authorization to handle controlled substances.

DEA does not have statutory authority under the Controlled Substances Act to issue or maintain a registration if the applicant or registrant is without state authority to handle controlled substances in the state in which he conducts business. See 21 U.S.C. 802(21), 823(f), and 824(a)(3). This prerequisite has been consistently upheld. See Rory Patrick Doyle, M.D., 69 FR 11655 (2004); Dominick A. Ricci, M.D., 58 FR 51104 (1993); Bobby Watts, M.D., 53 FR 11919 (1988).

Here, it is clear that Dr. Saleh's Michigan medical license was suspended, and it subsequently expired. Under the circumstances, it is reasonable to infer that Dr. Saleh is currently not licensed under Michigan law to handle controlled substances. Therefore, he is not entitled to a DEA registration in that state. As a result of a finding that Dr. Saleh lacks state authorization to handle controlled substances, the Deputy Administrator concludes that it is unnecessary to address further whether his DEA registration should be revoked based upon the public interest grounds asserted in the Order to Show Cause. See Samuel Silas Jackson, D.D.S., 67 FR 65145 (2002); Nathaniel-Aikens-Afful, M.D., 62 FR 16871 (1997); Sam F. Moore, D.V.M., 58 FR 14428 (1993).

Accordingly, the Deputy Administrator of the Drug Enforcement Administration, pursuant to the authority vested in her by 21 U.S.C. 823 and 824 and 28 CFR 0.100(b) and 0.104, hereby orders that DEA Certificate of Registration, AS5912387, issued to Saeed Saleh, M.D., be, and it hereby is, revoked. The Deputy Administrator further orders that any pending applications for renewal or modification of such registration be, and they hereby are, denied. This order is effective November 1, 2004.

Dated: September 8, 2004.
Michele M. Leonhart,
Deputy Administrator.

[FR Doc. 04-21962 Filed 9-29-04; 8:45 am]

BILLING CODE 4410-09-M